DEPARTMENT OF ENERGY

Federal Energy Regulatory Commission

[Project No. 14795-002]

Shell Energy North America (US), LP; Notice of Application Ready for Environmental Analysis, and Soliciting Comments, Recommendations, Terms and Conditions, and Fishway Prescriptions

Take notice that the following hydroelectric application has been filed with the Commission and is available for public inspection.

a. Type of Application: Original major license.

b. Project No.: 14795-002.

c. Date Filed: November 1, 2017.

d. Applicant: Shell Energy North America (US), L.P.

e. Name of Project: Hydro Battery Pearl Hill Pumped Storage Project.

f. Location: On the Columbia River and Rufus Woods Lake, near Bridgeport, Douglas County, Washington. The project would be located on state lands except for the lower reservoir and power generation and pumping equipment which would be located on Rufus Woods Lake, a reservoir operated by the U.S. Army Corps of Engineers (Corps).

g. Filed Pursuant to: Federal Power Act, 16 U.S.C. 791(a)-825(r).

h. Applicant Contact: Kent Watt, Shell US Hosting Company, Shell Woodcreek Office, 150 North Dairy Ashford, Houston, TX 77079, (832) 337-1160, kent.watt@shell.com.

i. FERC Contact: Ryan Hansen at (202) 502-8074 or ryan.hansen@ferc.gov.

j. Deadline for Filing Comments, Recommendations, Terms and Conditions, and Prescriptions: 60 days from the issuance date of this notice; reply comments are due 105 days from the issuance date of this notice.

The Commission strongly encourages electronic filing. Please file comments, recommendations, terms and conditions, and fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14795-002.

k. This application has been accepted and is now ready for environmental analysis.

l. The proposed project would utilize the Corps' existing Rufus Woods Lake Reservoir and would consist of the following new facilities: (1) A 300-foot-diameter, 20-foot-tall lined corrugated steel tank upper reservoir with storage capacity of 26.5 acre-feet; (2) a 3-foot-diameter, 3,400-foot-long above-ground carbon steel penstock transitioning to a 3-foot-diameter, 2,700-foot-long buried carbon steel penstock; (3) a 77-foot-long, 77-foot-wide structural steel power platform housing five 2,400 horsepower vertical turbine pumps, one 5-megawatt twin-jet Pelton turbine and synchronous generator, and accompanying electrical equipment; (4) five vertical turbine pump intakes, each fitted with a 27-inch-diameter by 94-inch-long T-style fish screen; (5) a 2,500-foot-long, 24.9-kilovolt buried/affixed transmission line interconnecting to an existing non-project transmission line; (6) approximately 3,847 feet of gravel project access road; and (7) appurtenant facilities. The average annual generation is estimated to be 24 gigawatt-hours.

m. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

Register online at http://www.ferc.gov/docs-filing/esubscription.asp to be notified via email of new filings and issuances related to this or other pending projects. For assistance, contact FERC Online Support.

n. Public notice of the filing of the initial development application, which has already been given, established the due date for filing competing applications or notices of intent. Under the Commission's regulations, any competing development application must be filed in response to and in compliance with public notice of the initial development application. No competing applications or notices of intent may be filed in response to this notice.

o. Procedural Schedule: The application will be processed according to the following revised Hydro Licensing Schedule. Revisions to the schedule may be made as appropriate.

Milestone | Target date
Filing of comments, recommendations, preliminary terms and conditions, and preliminary fishway prescriptions | December 2018.
Commission issues draft Environmental Analysis (EA) | June 2019.
Comments on draft EA | August 2019.
Commission issues final EA | November 2019.

Dated: October 18, 2018.
Nathaniel J. Davis, Sr.,
Deputy Secretary.

[FR Doc. 2018-23214 Filed 10-23-18; 8:45 am]

BILLING CODE 6717-01-P